DEPARTMENT OF TRANSPORTATION

Federal Aviation Administration

Notice of Intent To Rule on Application 03-08-C-00-JAX, Impose and Use the Revenue From a Passenger Facility Charge (PFC) at Jacksonville International Airport, Jacksonville, FL

AGENCY: Federal Aviation Administration (FAA), DOT.

ACTION: Notice of intent to rule on application.

SUMMARY: The FAA proposes to rule and invites public comment on the application to impose and use the revenue from a PFC at Jacksonville International Airport under the provisions of the 49 U.S.C. 40117 and part 158 of the Federal Aviation Regulations (14 CFR part 158).

DATES: Comments must be received on or before February 24, 2003.

ADDRESSES: Comments on this application may be mailed or delivered in triplicate to the FAA at the following address: Orlando Airports District Office, 5950 Hazeltine National Drive, Suite 400, Orlando, Florida 32822.

In addition, one copy of any comments submitted to the FAA must be mailed or delivered to John D. Clark, III, President of the Jacksonville Airport Authority at the following address: 2010 Barnstormer Road, Jacksonville, Florida 32218.

Air carriers and foreign air carriers may submit copies of written comments previously provided to the Jacksonville Airport Authority under § 158.23 of part 158.

FOR FURTHER INFORMATION CONTACT: Richard Owen, Program Manager, Orlando Airports District Office, 5950 Hazeltine National Drive, Suite 400, Orlando, Florida 32822, (407) 812-6331, extension 19. The application may be reviewed in person at this same location.

SUPPLEMENTARY INFORMATION: The FAA proposes to rule and invites public comment on the application to impose and use the revenue from a PFC at Jacksonville International Airport under the provisions of the 49 U.S.C. 40117 and part 158 of the Federal Aviation Regulations (14 CFR part 158).

On January 15, 2003, the FAA determined that the application to impose and use the revenue from a PFC submitted by the Jacksonville Airport Authority was substantially complete within the requirements of § 158.25 of part 158. The FAA will approve or disapprove the application, in whole or in part, no later than April 30, 2003.

The following is a brief overview of the application.

Proposed charge effective date: January 1, 2004

Proposed charge expiration date: July 1, 2007

Level of the proposed PFC: $4.50

Total estimated PFC revenue: $40,175,750

Brief description of proposed project(s): Checked baggage explosive detection system, Access control and communication center upgrades, and Centralized security checkpoint/west courtyard.

Class or classes of air carriers which the public agency has requested not be required to collect PFCs: Non-scheduled/on-demand air taxi operators (ATCO) filing FAA Form 1800-31.

Any person may inspect the application in person at the FAA office listed above under FOR FURTHER INFORMATION CONTACT and at the FAA regional Airports office located at: Federal Aviation Administration, Airports Division, ASO-600, 1701 Columbia Avenue, College Park, Georgia 30337.

In addition, any person may, upon request, inspect the application, notice and other documents germane to the application in person at the Jacksonville Airport Authority.

Issued in Orlando, FL, on January 15, 2003.
W. Dean Stringer,
Manager, Airports District Office.

[FR Doc. 03-1667 Filed 1-23-03; 8:45 am]

BILLING CODE 4910-13-M